DEPARTMENT OF EDUCATION

34 CFR Parts 300 and 303

Individuals With Disabilities Education Act, as Amended by the Individuals With Disabilities Education Improvement Act of 2004 (IDEA)

AGENCY: Office of Special Education and Rehabilitative Services (OSERS), Department of Education.

ACTION: Notice of public meetings and correction.

SUMMARY: We published a notice in the Federal Register on April 1, 2005 (70 FR 16784), announcing plans to hold a series of public meetings to seek comments and suggestions about proposed regulations under 34 CFR parts 300 and 303 to implement programs under the recently amended IDEA. Under DATES, the day and date listed for the first meeting has been changed. The first meeting is listed as “Monday, June 6, 2005 in San Antonio, TX”. This date is corrected to read “Thursday, July 7, 2005 in San Antonio, TX” for this location.

This document also provides the information on specific sites for each of the currently planned public meetings.

DATES: The IDEA public meetings will be held from 1 p.m. to 4 p.m. and from 5 p.m. to 7 p.m.:

• Friday, June 17, 2005 in Nashville, TN at the Joe and Faye Wyatt Center for Education, 1930 South Drive, Peabody College, Vanderbilt University;

• Wednesday, June 22, 2005 in Sacramento, CA at the John F. Kennedy High School, 6715 Gloria Drive;

• Friday, June 24, 2005 in Las Vegas, NV at the Donald C. Moyer Student Union, University of Nevada-Las Vegas, 4505 Maryland Parkway;

• Monday, June 27, 2005 in New York, NY at the W Hotel of New York, Forest 1 Room, 541 Lexington Avenue, Between 49th and 50th Street;

• Wednesday, June 29, 2005 in Chicago, IL at the Palmer House Hilton, Red Lacquer Room, 17 E. Monroe Street;

• Thursday, July 7, 2005 in San Antonio, TX at the Education Service Center, Region 20, 1314 Hines Avenue; and

• Tuesday, July 12, 2005 in Washington, DC at Gallaudet University, Kellogg Conference Center, 800 Florida Avenue, NE.

FOR FURTHER INFORMATION CONTACT: Troy R. Justesen, U.S. Department of Education, 400 Maryland Avenue, SW., room 5138, Potomac Center Plaza, Washington, DC 20202. Telephone: (202) 245-7468 or by e-mail: osep@ed.gov.

If you use a telecommunications device for the deaf (TDD), you may call the Federal Relay Service (FRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 24, 2005.
John H. Hager,
Assistant Secretary for Special Education and Rehabilitative Services.

[FR Doc. 05-10762 Filed 5-27-05; 8:45 am]

BILLING CODE 4000-01-P